DEPARTMENT OF THE INTERIOR

Bureau of Ocean Energy Management

[Docket No. BOEM-2021-0066]

Notice of Availability of a Final Environmental Impact Statement for South Fork Wind, LLC's Proposed Wind Energy Facility Offshore Rhode Island

AGENCY: Bureau of Ocean Energy Management (BOEM), Interior.

ACTION: Notice of availability; final environmental impact statement.

SUMMARY: In accordance with National Environmental Policy Act (NEPA) regulations, BOEM announces the availability of the final environmental impact statement (FEIS) for the construction and operation plan (COP) submitted by South Fork Wind, LLC, (South Fork Wind) for its proposed South Fork Wind Farm (SFWF) and South Fork Export Cable (SFEC) Project (Project). The FEIS analyzes the potential environmental impacts of the Project as described in the COP (the proposed action) and alternatives to the proposed action and will inform BOEM's decision whether to approve, approve with modifications, or disapprove the COP.

ADDRESSES: The FEIS can be found on BOEM's website at: https://www.boem.gov/renewable-energy/state-activities/south-fork.

FOR FURTHER INFORMATION CONTACT: For information on the FEIS or BOEM's policies associated with this notice of availability (NOA), please contact: Michelle Morin, BOEM Office of Renewable Energy Programs, 45600 Woodland Road, Sterling, Virginia 20166, (703) 787-1722 or michelle.morin@boem.gov.

SUPPLEMENTARY INFORMATION:

Proposed Action: South Fork Wind seeks approval to construct, operate, maintain, and eventually decommission the Project—a wind energy facility on the Outer Continental Shelf (OCS) offshore Rhode Island and an associated export cable. The Project would be developed within the range of design parameters outlined in the South Fork Wind COP, subject to applicable mitigation measures. The SFWF as proposed in the COP would include up to 15 wind turbine generators with a nameplate capacity of 6 to 12 megawatts per turbine, submarine cables between the wind turbine generators (inter-array cables), and an offshore substation. The SFWF would be located entirely on the OCS in the area covered by Renewable Energy Lease OCS-A 0517 (Lease Area), approximately 19 miles southeast of Block Island, RI, and 35 miles east of Montauk Point, NY. The SFEC is an alternating current electric cable that would connect the SFWF to the existing mainland electric grid in East Hampton, NY. The Project also would include an operations and maintenance facility located onshore at either Montauk in East Hampton, NY, or Quonset Point in North Kingstown, RI, and a facility to connect the SFEC with the Long Island Power Authority electric transmission and distribution system in the town of East Hampton, NY.

Alternatives: BOEM considered 22 alternatives when preparing the draft environmental impact statement (DEIS) and carried forward four alternatives for further analysis in the DEIS and FEIS. These four alternatives include three action alternatives and the no action alternative. Eighteen alternatives were rejected because they did not meet the purpose and need for the proposed action or did not meet screening criteria. The screening criteria included consistency with law and regulations; operational, technical, and economic feasibility; environmental impact; and geographical considerations.

Availability of the FEIS: The FEIS, South Fork Wind COP, and associated information are available on BOEM's website at: https://www.boem.gov/South-Fork/. BOEM has distributed digital copies of the FEIS to all parties listed in the FEIS appendix B, which also includes the location of all libraries receiving a copy. If you require a CD or paper copy, BOEM will provide one upon request, as long as copies are available. You may request a CD or paper copy of the FEIS by calling (703) 787-1662.

Cooperating Agencies: The following 10 agencies and governmental entities participated as cooperating agencies in the preparation of the FEIS: Bureau of Safety and Environmental Enforcement; U.S. Environmental Protection Agency; National Marine Fisheries Service; U.S. Army Corps of Engineers; U.S. Coast Guard; the Massachusetts Office of Coastal Zone Management; Rhode Island Department of Environmental Management; Rhode Island Coastal Resource Management Council; and Town of East Hampton, and Trustees of the Freeholders and Commonality of the Town of East Hampton.

Authority: This NOA was prepared under 42 U.S.C. 4231 et seq. (NEPA, as amended) and 40 CFR 1506.6.

William Yancey Brown,
Chief Environmental Officer, Bureau of Ocean Energy Management.

[FR Doc. 2021-17829 Filed 8-19-21; 8:45 am]

BILLING CODE 4310-MR-P